DEPARTMENT OF HEALTH AND HUMAN SERVICES

Centers for Disease Control and Prevention

[60Day-13-13YQ]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to LeRoy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Institutional Awareness and Commitment to Ensuring Safe, Stable, and Nurturing Relationships and Environments for Children and Prevention Child Maltreatment—New—National Center for Injury Prevention and Control (NCIPC)—Centers for Disease Control and Prevention (CDC).

Background and Brief Description

Safe, stable, nurturing relationships and environments set children on a positive trajectory for optimal child development and health, provide a buffer against the effects of adverse child experiences, are fundamental to healthy brain development and have a positive impact on a broad range of health problems across the life course. Promoting safe, stable, nurturing relationships and environments may also reduce child maltreatment which is a significant public health problem affecting physical and emotional health throughout the lifespan.

NCIPC is funding five state health departments in Fiscal Year 2012 to coordinate and manage existing and new partnerships with other sectors to promote safe, stable, nurturing relationships and environments for children; and work with partners to identify strategies across sectors that promote safe, stable, nurturing relationships and environments. CDC requests OMB approval for two years to collect information that will establish the baseline level of state health departments' and partners' awareness and commitment to ensuring safe, stable, and nurturing relationships and environments for children and preventing child maltreatment.

This information will be collected from staff at health departments soon after receiving their award and from their partners at the start of each new partnership. Respondents will be 3 staff members from 5 health departments receiving funding and 3 staff members at approximately 11 organizations or agencies the health departments choose to partner with. Information will be collected once using SurveyMonkey®, an electronic web-based interface which is a secure Web site that meets the Safe Harbor and European Union data protection requirements. This ICR will only collect data pertaining to organizations. No individual identifiable information will be requested.

Each grantee will receive a personalized advance notification letter, followed by an email with a link to the SurveyMonkey® site. In turn, the grantee will send a personalized advance notification letter, followed by an email with a link to the SurveyMonkey® site to each new partner throughout the funding period.

The goal of the data collection is to assess awardee awareness and commitment so that CDC may establish state health departments' and partners' level of commitment at the start of the funding. This information will be compared to post-funding awareness and commitment data which, along with other data sources (i.e., changes in public awareness and commitment, and changes in policies and programs), will allow CDC to establish the success of this funding announcement.

Given five health departments with 10 partner organizations each and 3 staff at each organization responding, the total number of respondents for this project is 165 (83 respondents per year). Total project burden over the two years of data collection is 78 hours (39 hours per year).

There are no costs to respondents other than their time.

Estimated Annualized Burden Hours
Type of respondents | Form name | Number of respondents | Number of responses per respondent | Average burden per response (in hrs.) | Total burden (in hrs.)
Grantees and their partners | Institutional awareness and commitment survey | 83 | 1 | 28/60 | 39 39

Leroy A. Richardson,
Chief, Information Collection Review Office, Office of Scientific Integrity, Office of the Associate Director for Science, Office of the Director, Centers for Disease Control and Prevention.

[FR Doc. 2013-16769 Filed 7-12-13; 8:45 am]

BILLING CODE 4163-18-P